DEPARTMENT OF THE INTERIOR

Bureau of Indian Affairs

Land Acquisitions; Jicarilla Apache Tribe of New Mexico

AGENCY: Bureau of Indian Affairs, Interior.

ACTION: Notice of final agency determination to take land into trust under 25 CFR part 151.

SUMMARY: The Associate Deputy Secretary made a final agency determination to acquire approximately 31,777.066 acres, more or less, of land into trust for the Jicarilla Apache Tribe of New Mexico on December 4, 2006. This notice is published in the exercise of authority delegated by the Secretary of the Interior to the Associate Deputy Secretary by 209 DM 8.

FOR FURTHER INFORMATION CONTACT: Ben Burshia, Bureau of Indian Affairs, Chief, Division of Real Estate Services, Mail Stop 4639-MIB, 1849 C Street, NW., Washington, DC 20240, Telephone No. (202) 208-7737.

SUPPLEMENTARY INFORMATION: This notice is published to comply with the requirement of 25 CFR 151.12(b) that notice be given to the public of the Associate Deputy Secretary's decision to acquire land in trust at least 30 days prior to signatory acceptance of the land into trust. The purpose of the 30 days waiting period in 25 CFR 12(b) is to afford interested parties the opportunity to seek judicial review of final administrative decisions to take land in trust for Indian tribes and individual Indians before transfer of title to the property occurs. On December 4, 2006, the Associate Deputy Secretary decided to accept approximately 31,777.066 acres, more or less, of land into trust for the Jicarilla Apache Tribe of New Mexico pursuant to the Act of June 18, 1934 (48 Stat., 986; 25 U.S.C. 467). The Associate Deputy Secretary shall acquire title in the name of the United States in trust for the Jicarilla Apache Tribe of New Mexico for the following parcel of land described below no sooner than 30 days after the date of this notice.

New Mexico Principal Meridian, Rio Arriba County, New Mexico.

All of the following described tracts, pieces, or parcels of land comprising a net area of 31,777.066 acres of land, more or less (including PARCEL ONE, minus its seven exceptions, plus PARCEL TWO), situated within the Tierra Amarilla Grant, Rio Arriba County, New Mexico, to wit:

Parcel One

The following described land in Rio Arriba County, New Mexico:

Beginning at the point of intersection of the North bank of Canones Creek and the (1913) East right of way line of the Chama-Tierra Amarilla Wagon road, a granite stone 12″ x 5″ x 15″ in a pile of stones marked “S.W.C.J.T.” on East side, whence a cottonwood 18 inches in diameter and marked “B.T.” bears South 3 feet distant and running along the East right of way line of the road aforesaid by courses and distances as follows: N. 10°31′ W., 504.7 feet to a stone marked “V.J.1”; thence N. 24°02′ W., 1370 feet to a stone marked “V.J.2”; thence N. 2°13′ W., 912.7 feet to a stone marked “V.J.3”; thence N. 3°37′ W., 1800 feet to a stone marked “V.J.4”; thence N. 0°15′ W., 1200 feet to a stone marked “V.J.5”; thence N. 4°57′ E., 1050 feet to a stone marked “V.J.6”; thence N. 11°29′ W., 730 feet to a stone marked “V.J.7”; thence N. 15°35′ E., 540 feet to a stone marked “V.J.8”; thence N. 14°23′ W., 1030 feet to a stone marked “V.J.9”; thence N. 1°17′ E., 1032 feet to a stone marked “V.J.10”; thence N. 20°20′ W., 430 feet to a stone marked “V.J.11”, the point of intersection of the (1913) East right of way line of the said Chama-Tierra Amarilla wagon road and the East boundary line of the “old” Chama-Tierra Amarilla wagon road as used prior to the year 1912, whence a pine 30 inches in diameter and marked “B.T.” bears S. 76° W., 422.5 feet distant; thence Northerly along the East boundary line of the “old” Chama-Tierra Amarilla wagon road last above described by courses and distances as follows: N. 13°46′ E., 520 feet to a stone marked “V.J.12”; thence N. 23°43′ W., 1150 feet to a stone marked “V.J.13”; thence N. 1°06′ W., 1105 feet to a stone marked “V.J.14”; thence N. 25°26′ W., 1020 feet to a stone marked “V.J.15”; thence N. 23°29′ W., 1658 feet to a stone marked “V.J.16”; thence N. 36°57′ W., 1330 feet to a stone marked “V.J.17”; thence N. 29°08′ W., 940 feet to a stone marked “V.J.18”; thence N. 15°49′ W., 630 feet to a stone marked “V.J.19”; thence N. 29°53′ W., 1150 feet to a stone marked “V.J.20”; thence N. 8°16′ W., 462 feet to a pine 8 inches in diameter marked “V.J.21”; thence N. 6°07′ E., 2250 feet to a stone marked “V.J.22”; thence N. 4°05′ W., 1400 feet to a stone marked “V.J.23”; thence N. 14°46′ W., 410 feet to a stone marked “V.J.24”; thence N. 6°06′ W., 600 feet to a stone marked “V.J.25”; thence N. 43°13′ W., 352 feet to the point of intersection of the Easterly line of the said Chama-Tierra Amarilla wagon road as used prior to 1912, and the Easterly bank of the Chama River, a sandstone 4″ x 12″ x 24″ in a mound of stone and marked “V.J.26”, whence a cottonwood 20 inches in diameter bears N. 24°15′ E., 29 feet, and another cottonwood 20 inches in diameter bears S. 73°45′ E., 13.5 feet, each marked “B.T.”; thence Northerly following meanders of the said Chama River as nearly as may be practicable, but crossing and recrossing the same, by courses and distances as follows: N. 7°22′ E., 1136 feet to a stone on the West bank of said river bed marked “V.J.27”; thence N. 80°28′ E., 540.8 feet, intersecting the South boundary line of a tract of land deeded in the deed given by Charles C. Catron to The Chama Valley Land Company, dated June 12, 1909, and of record in Book 4, pages 119-150 in the office of the Recorder of Rio Arriba County, New Mexico, and designated as “Lands in Chama Valley”, at a point whence the Southeast corner of said tract bears South 76°00′ E., 1423.1 feet distant, at which point of intersection is placed a sandstone on the East bank of said river 16″ x 12″ x 10″ and marked “V.J.28”, whence a pine 12 inches in diameter bears S. 85° E., 89.5 feet and a cottonwood 12 inches in diameter bears S. 17°30′ E., 83 feet distant, each marked “B.T.V.J.28”; thence following the boundary lines of the said “Lands of Chama Valley” by courses and distances as follows: S. 76° E., 1423.1 feet to the Southeast corner thereof, a stone marked “S.E.C.F.B.” on West side and “V.J.” on East side; thence, coincident which the East line of said “Lands in Chama Valley”, N. 13°15′ E., 8279.9 feet to the Southwest corner of a tract of land excluded for the Chama Cemetery, a stone marked “S.W.C. Cem.” on East and “F.B.” on West side; thence following the boundary lines of said Cemetery S. 78°43′ E., 268.5 feet to the Southeast corner thereof, a stone marked “S.E.C. Cem.”; thence N. 13°30′ E., 192.7 feet to the Northeast corner thereof, a stone marked “N.E.C. Cem.”; thence N. 78°43′ W., 286.3 feet to the Northwest corner thereof, a stone marked “N.W.C. Cem.” on East and “F.B.” on West, which point also is on the East boundary line of the aforesaid tract “Lands in Chama Valley” and 748.8 feet, S. 13°15′ W., from the Northeast corner thereof; thence N. 13°15′ E., 748.8 feet along the East boundary line of said “Lands in Chama Valley” to the Northeast corner thereof, a stone marked “N.E.C.F.W.B.” on South side and “V.J.” on North side; thence following the North boundary line of said “Lands in Chama Valley” N. 71°03′ W., 1862 feet to the Northwest corner thereof, a stone marked “N.W.C.B.” on East and “D.&R.R.G.” on West side, whence a cottonwood 5 inches in diameter bears S. 39° W. 22.2 feet, marked “B.T.N.W.C.B. 2 D.&R.G.” which point also is the Northeast corner No. 2 of a tract of land excluded in the deed of Catron to The Chama Valley Land Company hereinbefore mentioned and designated as “Depot Grounds of the Denver and Rio Grande Railroad at Chama”; thence following the North line of the said Depot grounds, N. 71°03′ W., 62 feet to an intersection with the East bank of the Chama River aforesaid, a sandstone 4″ x 8″ x 10″ marked “D. & R. G.” on South side and “V. J.” on North side; thence Northerly following the meanders of the said Chama River as nearly as practicable by courses and distances as follows: Thence N. 9°03′ W., 475 feet; thence N. 32°24′ E. 598 feet; thence N. 6°27′ W., 357 feet; thence N. 83°58′ W., 360 feet; thence N. 18°05′ E., 315 feet; thence N. 65°01′ E., 290 feet; thence N. 15°14′ E., 780 feet; thence N. 31°36′ E., 300.8 feet; thence N. 31°03′ W., 603.4 feet; thence N. 17°34′ W., 337.8 feet; thence N. 37°57′ E., 1511.8 feet to the Northwest corner of tract herein conveyed (the point of intersection of the West bank of the Chama River and the South line of a tract of land deeded to one T.D. Burns by the grantor herein mentioned), a conglomerate stone 8″ x 14″ x 20″ marked “T.B.D.” on North side and “N.W.C.V.J.” on South side, whence a cottonwood 6 inches in diameter marked “B.T.N.W.C.V.J.” bears N. 43°30′ W., 89 feet; thence Easterly, coincident with the South boundary line of the said T.D. Burns tract, by courses and distances as follows: S. 44°27′ E., 1453.4 feet; thence N. 74°17′ E., 150 feet; thence N. 62°25′ E., 9058 feet to a point on the summit of Baldy Mountain; thence N. 5°45′ E., 2946 feet to a point on a crest of divide between a tributary of the Chama River and South branch of Wolfe Creek; thence Easterly along the crest of said divide as nearly as may be practicable to a point on the summit of “Slide Rock” Mountain (the course and distances on a direct line, however, being S. 74°21′ E., 17135 feet), a stone marked “T.D.B.” on North side which point also is on the crest of the watershed between Brazos and Chama Rivers; thence Southerly following the crest of the divide between the watershed of the Brazos River and the Chama River and of the Brazos River and Canones Creek as nearly as practicable, by courses and distances as follows: S. 23° 23′ E., 2040.7 feet to a stone marked “V.J.1E.”; thence S. 61°51′ E., 796 feet to a stone marked “V.J.2E.”; thence S. 79°45′ E., 600 feet to a stone marked “V.J.3E.”; thence S. 64°23′ E., 600 feet to a stone marked “V.J.4E”; thence S. 20°23′ E., 820 feet to a stone marked “V.J.B.5E.”; thence S. 27°12′ E., 1130 feet to a stone marked “J.6”; whence a spruce 12 inches in diameter bears S. 60°15′ W., 69 feet, and a spruce 5 inches in diameter bears N. 10° W., 9 feet, each marked “B.T.V.J.6E.”; thence S. 33°57′ E., 975 feet to a stone marked “V.J.7E.”; thence S. 60°24′ E., 700 feet to a stone marked “V.J.8E.”; thence S. 45°05′ E., 547 feet to a spruce stump 4 inches in diameter marked “V.J.9E.”; thence S. 29°16′ E., 1861.4 feet to a stone marked “V.J.10E.”; thence S. 50°20′ E., 200 feet to a stone marked “V.J.11E.”; thence S. 28°41′ E., 270 feet to a stake marked “V.J.12E”; thence S. 43°44′ E., 400 feet to a stake marked “V.J.13E.”; thence S. 18°19′ E., 238 feet to a stake marked “V.J.”; thence S. 28°17′ E., 445 feet to a stake marked “V.J.”; thence S. 76°01′ E., 254 feet to a stake marked “V.J.”; thence S. 56°39′ E., 250 feet to a stake marked “V.J.”; thence S. 71°03′ E., 275 feet to a stake marked “V.J.”; thence N. 59°13′ E., 668 feet to a stake marked “V.J.”, whence a spruce 8 inches in diameter marked “B.T.V.J.A.” bears N. 28°30′ W., 12 feet; thence S. 70°32′ E., 668 feet to a stake marked “V.J.”; thence N. 82°02′ E., 360 feet to a stake marked “V.J.”; thence N. 80°21′ E., 203.5 feet to a stake marked “V.J.”; thence S. 66°04′ E., 214 feet to a stake marked “V.J.”; thence S. 80°55′ E., 220 feet to a stake marked “V.J.”; thence N. 82°53′ E., 210 feet to a stake marked “V.J.”; thence S. 81°37′ E., 265 feet to a stake marked “V.J.”; thence N. 46°26′ E., 226 feet; thence N. 84°40′ E., 265.5 feet; thence S. 85°35′ E., 594.7 feet to a stone marked “V.J.”, whence a spruce 18 inches in diameter bears N. 63° E., 12 feet and another spruce 18 inches in diameter bears S. 64°30′ W., 26 feet, each marked “B.T.V.J.”; thence S. 49°21′ E., 412.6 feet; thence S. 55°48′ E., 258 feet; thence S. 42°33′ E., 252.2 feet; thence S. 63°55′ E., 254 feet; thence S. 25°45′ E., 274.3 feet; thence S. 14°13′ E., 225 feet to a stone 2″ x 10″ x 18″ marked “V.J.3M”, whence a spruce 10 inches in diameter bears S. 78°30′ E., 19 feet and a spruce 18 inches in diameter bears N. 6°30′ W., 65 feet, each marked “V.J.3M.B.T.”; thence S. 36°27′ E., 505 feet to an iron pipe, ¾ inch diameter, marked “VJ 36”, as shown on the plat of the 1998 survey of the Mossman Tract, by William H. Albert, New Mexico Professional Surveyor No. 7241, filed in the Office of the County Clerk, Rio Arriba County, New Mexico, on July 9, 1998, in Plat Book P-980, page 5719, as Document No. RA 98-256A, from which point New Mexico State Engineer's Office (N.M.S.E.O) brass cap control station “CABLE”, bears S. 86°18′56″ W. (true mean geodetic bearing converted from state plane grid bearing), 43990.84 feet distant (at mean elevation of 7772 feet) (Note: Control station “CABLE” has New Mexico State Plane Coordinate System Central Zone (NAD27), U.S. survey feet coordinates of y = 2,142,009.14 and x = 400,496.13; and the combined grid to ground factor used in the above-described 1998 Albert survey is 1.0004620520 and was computed at N.M.S.E.O. “CABLE” using the mean elevation of 7772 feet.); thence following the meander line of the divide between the Brazos River and Canones Creek watersheds as shown on the above-described 1998 Albert plat, S. 27°31′04″ E. (true mean geodetic converted from state plane grid), 598.42 feet; thence continuing on the meander line of the divide as shown on the above-described 1998 Albert plat, S. 4°00′11″ E. (true mean geodetic converted from state plane grid), 2405.07 feet; thence continuing on the meander line of the divide as shown on the above-described 1998 Albert plat, S. 16°41′26″ E. (true mean geodetic converted from state plane grid), 757.48 feet to a rebar, ½ inch diameter, with cap marked “PS 7241”; thence continuing on the meander line of the divide as shown on the above-described 1998 Albert plat, S. 47°32′26″ E. (true mean geodetic converted from state plane grid), 1043.01 feet to a rebar, ½ inch diameter, with cap marked “PS 7241”; thence continuing on the meander line of the divide as shown on the above-described 1998 Albert plat, S. 13°58′23″ E. (true mean geodetic converted from state plane grid), 983.46 feet to a rebar, ½ inch diameter, with cap marked “PS 7241”; thence continuing on the meander line of the divide as shown on the above-described 1998 Albert plat, S. 5°43′44″ E. (true mean geodetic converted from state plane grid), 1823.47 feet; thence continuing on the meander line of the divide as shown on the above-described 1998 Albert plat, S. 7°37′00″ W. (true mean geodetic converted from state plane grid), 1704.80 feet to a fence post, 2½ inches diameter; thence continuing on the meander line of the divide as shown on the above-described 1998 Albert plat, S. 65°11′27″ E. (true mean geodetic converted from state plane grid), 1195.81 feet to a rebar, ½ inch diameter, with cap marked “PS 7241”; thence continuing on the meander line of the divide as shown on the above-described 1998 Albert plat, S. 87°12′14″ E. (true mean geodetic converted from state plane grid), 818.09 feet to a rebar, ½ inch diameter, with cap marked “PS 7241”; thence continuing on the meander line of the divide as shown on the above-described 1998 Albert plat, S. 64°04′44″ E. (true mean geodetic converted from state plane grid), 369.69 feet to a rebar, ½ inch diameter, with cap marked “PS 7241”; thence continuing on the meander line of the divide as shown on the above-described 1998 Albert plat, S. 41°35′26″ E. (true mean geodetic converted from state plane grid), 539.50 feet to a stone marked “VJ”; thence continuing on the meander line of the divide as shown on the above-described 1998 Albert plat, S. 70°33′44″ E. (true mean geodetic converted from state plane grid), 239.47 feet to a rebar, ½ inch diameter, with cap marked “PS 7241”; thence S. 31°21′ E., 1340 feet to a stone marked “V. J.”; thence S. 47°12′ E., 370 feet to a stone marked “V.J.”; thence S. 36°31′ E., 150 feet to a stone marked “V.J.”; thence S. 63°19′ E., 710 feet to a stone marked “V.J.”; thence S. 34°59′ E., 689 feet to a ledge rock marked “V.J.”, whence a spruce 12 inches in diameter bears N. 49°15′ E., 18.7 feet and a spruce 10 inches in diameter bears N. 22°30′ E., 59.5 feet, both marked “B.T.V.J.”; thence S. 8°10′ E., 7589 feet to a stone marked “V.J.”; thence S. 15°36′ E., 2025.8 feet to the Southeast corner of tract herein conveyed, a sandstone 3″ x 8″ x 18″ marked “S.E.V.J.”, whence a spruce 14 inches in diameter bears S. 3° E., 19 feet and a spruce 10 inches in diameter bears N. 72° W., 42 feet, each marked “B.T.S.E.V.J.”; thence leaving the crest of the divide as aforesaid, following Westerly along the South boundary of what is known as “El Poso Park” by courses and distances as follows: N. 86°57′ W., 1200 feet to a stone marked “V.J.1S.”; thence S. 73°33′ W., 168 feet to a stone marked “V.J.2S.”; thence S. 25°45′ W., 4038 feet to a stone marked “V.J.3S”; thence N. 39° 32′ W., 3847 feet to a stone marked “V.J.4S.”; thence N. 65°48′ W., 6360 feet to a stone marked “V.J.” thence N. 77°12′ W., 3070 feet to the head of the Box Canyon of Canones Creek a point on a granite stone located on Northwesterly side of said creek 3 ft. x 3 ft. x 2 ft. and marked “V.J.” on top; thence Southwesterly following the meanders of the said Canones Creek, as nearly as practicable, but crossing and recrossing same, an approximate distance of 3.85 miles to the mouth of said box canyon, a point on the North bank of said creek, at which point is placed a sandstone 6″ x 9″ x 8″ marked “N.E.A.B.B.T.”, whence a cottonwood 18 inches in diameter bears N. 58°30′ W., 35 feet, and a pine 30 inches in diameter bears S. 68°30′ E., 74 feet; thence Southwesterly, following the meanders of the Canones Creek as nearly as practicable, but crossing and recrossing same, by courses and distances as follows: S. 66°28′ W., 48.3 feet; thence S. 55°38′ W., 286 feet; thence S. 77°18′ W., 448.5 feet; thence S. 78°08′ W., 320 feet; thence S. 87°27′ W., 106.9 feet; thence N. 67°09′ W., 223.6 feet; thence S. 82°21′ W., 420.1 feet; thence S. 76°59′ W., 24.8 feet; to a 2½ inch iron pipe set in ground, the point of intersection with the East line of the tract of land deeded to Charles A. Daggett by the grantor herein mentioned and 1562.4 feet South from the Northeast corner thereof; thence coincident with the boundary lines of the said Daggett tract by courses and distances as follows: North, 1562.4 feet to the Northeast corner thereof, a stone 14″ x 10″ x 6″ marked “N.E.C.D.T.”; thence West, 8220 to the Northwest corner, a granite stone 14″ x 12″ x 7″ marked “N.W.C.D.T.”; thence South, 5280 feet to the Southwest corner thereof, a sandstone 12″ x 14″ x 16″ in mound of stone and marked “S.W.C.D.T .”, whence corner No. 1 of a tract of reserved land designated in the deed of Catron to The Chama Valley Land Company, hereinbefore mentioned, as “Tract No. 1 or Canones Tract” bears S. 60°18′ W., 7014 feet; thence along said creek N. 87°32′ W., 1200 feet to a point on the North bank thereof; thence with meanders of said creek by crossing and recrossing same, S. 59°02′ W., 2247 feet to the point of beginning of PARCEL ONE, containing a gross area of 32,133.67 acres, more or less (32,075.8 acres + 57.87 acres additional as indicated on the above-described 1998 Albert survey plat)—before the exceptions listed below are subtracted out. All courses true, 1913 magnetic variation 14°30′ East, as obtained by solar observation. Subject however to all exceptions and reservations and also all warranties, defenses and recourses provided for by the Arlington Land Company in its Warranty Deed to Venceslao Jaramillo under date of May 1st, 1913, and recorded in the office of the County Clerk and ex-officio County Recorder of Rio Arriba County, State of New Mexico, under date of October 1st, 1913, in vol. No. 19-A, pages 331-344 inclusive.

Less and Excepting from the above-described Parcel One, the following seven tracts of land.

Less and Excepting Tract One

All that portion of the above-described Parcel One (formerly known as the Venceslao Jaramillo Tract) lying West of the centerline of the Santa Fe-Chama Highway as now constructed, which centerline is described as follows, but subject to the easement of way of varying width for said highway: Beginning at centerline Sta. 826+07 of FAP 34-B Reo., Rio Arriba County, New Mexico, a point on the right of way of the present road; thence N. 5° 34′ W., a distance of 3182.1 feet to Sta. 857+89.1, point of curve; thence Northerly on a 0° 30′ curve (radius = 11460 feet) through an arc of 4° 45′ to the right a distance of 950 feet to Sta. 867+39.1, point of tangent; thence N. 0° 49′ W., a distance of 5076.2 feet to Sta. 918+15.3, point of curve; thence Northwesterly on a 1° curve (radius = 5730 feet) thru an arc 20° 17′ to the left a distance of 2028.3 feet to Sta. 938+43.6, point of tangent; thence N. 21° 06′ W., a distance of 1794 feet to Sta. 956+37.6 Back = 955+53.5 ahead; thence continuing N. 21° 06′ W., a distance of 5986.7 feet to Sta. 1015+40.2, point of curve; thence Northerly on a 1° curve (radius = 5730 feet) thru an arc of 9° 47′ to the right a distance of 978.3 feet to Sta. 1025+18.5, point of tangent; thence N. 11° 19′ W., a distance of 1776.5 feet to Sta. 1042+95, a point on the line between the properties of the grantor and Mrs. John Reddington, containing 95.324 acres, more or less.

(Note: TRACT ONE, described above, is a parcel of land that was originally excepted in the Warranty Deed from Edward Sargent and Estelle B. Sargent to Chama Land and Cattle Company, recorded in the Office of the County Clerk, Rio Arriba County, New Mexico, on May 29, 1950, in Book 40, page 160.)

Less and Excepting Tract Two

All that certain parcel of land, known as the Sargent Canones Ranch, described as follows: Beginning at the southwest corner of the Charles A. Daggett tract as described in the deed from the Arlington Land Company to Vencesalo Jaramillo, dated May 1, 1913, as recorded in the records of the County Clerk of Rio Arriba County, New Mexico, in Book 19-A, at pages 331-344, inclusive; thence along Canones Creek, N. 87° 32′ W., a distance of 1200 feet to a point on the North bank thereof; thence with meanders of said creek by crossing and recrossing same, S. 59° 02′ W., a distance of 2247 feet to the point described as the beginning point of the survey description of the Jaramillo tract as contained in the deed from The Arlington Land Company to Jaramillo, as described above, which point is located at the intersection of the North bank of Canones Creek and the East right of way line of the Chama-Tierra Amarilla wagon road as the same existed May 1, 1913; thence running along the East right of way line of the road, as above, (the West boundary of the Jaramillo tract), by courses and distances as follows: N. 10° 31′ W., a distance of 504.7 feet; thence N. 24° 02′ W., a distance of 1370 feet; thence N. 2° 13′ W., a distance of 615 feet to the Northwest corner of the tract being described here, which point is on the West boundary of the Jaramillo tract and is located S. 89° 00′ W., (distance omitted) from the fence corner on the North side of the fenced private lane running Easterly from the present (1948) State Highway, and which corner is also on the East boundary of the said fenced Highway; thence N. 89° E., to, and following the fence line on the North side of the said private lane to a point which is 646 feet from the said fence corner; thence again following the said fence in the North side of the said lane, to a point which is N. 83° E., 2100 feet distant; thence again following the said fence line to a point which is N. 71° 30′ E., 821 feet distant and which point is also on the West boundary of the said Charles A. Daggett tract, and is also the Northeast corner of the tract being described here; thence 31 feet South to the fence corner on the South side of the said private lane; thence South, along the boundary between the Daggett tract and the Jaramillo tract, a distance of 1726 feet to the point of beginning of the survey of the tract being described here. The above described tract contains 125.4 acres, more or less.

(Note: TRACT TWO, described above, is a parcel of land that was originally excepted in the Warranty Deed from Edward Sargent and Estelle B. Sargent to Chama Land and Cattle Company, recorded in the Office of the County Clerk, Rio Arriba County, New Mexico, on May 29, 1950, in Book 40, page 160. The distance from the Northwest corner of this tract, on the West boundary of the Jaramillo tract, to the fence corner on the North side of the fenced private lane and on the East boundary of the fenced highway, was omitted from the above deed description.)

Less and Excepting Tract Three

All that certain parcel of land, containing 99.79 acres, more or less, as described in that certain Warranty Deed from Chama Land and Cattle Company, Inc. to D.I.C. Kelly, recorded in the Office of the County Clerk, Rio Arriba County, New Mexico, on February 28, 1955, in Book 51, page 51.

Less and Excepting Tract Four

All of that certain parcel of land, containing 2.59 acres, more or less, as described in that certain Quitclaim Deed from Chama Land and Cattle Company, Inc. to Raymond E. Reddington, recorded in the Office of the County Clerk, Rio Arriba County, New Mexico, on January 24, 1957, in Book 55, page 165.

Less and Excepting Tract Five

All of that certain parcel of land containing 4.83 acres, more or less, described in Exhibit “B” of that certain Warranty Deed from Chama Land and Cattle Company, Inc. to O. A. Washburn, recorded in the Office of the County Clerk, Rio Arriba County, New Mexico, on September 23, 1956, in Book 53, page 353.

Less and Excepting Tract Six

All of that certain parcel of land, containing 2.360 acres, more or less, as described in that certain Quitclaim Deed from Chama Land and Cattle Company, Inc. to the New Mexico State Highway Department, recorded in the Office of the County Clerk, Rio Arriba County, New Mexico, on March 17, 1969, in Book 101, page 271.

Less and Excepting Tract Seven

All of that certain parcel of land, containing 26.5 acres, more or less, as described in that certain Corrected Warranty Deed from Chama Land and Cattle Company, Inc. to Newt McCain and Mary Anne McCain, recorded in the Office of the County Clerk, Rio Arriba County, New Mexico, on February 1, 1971, in Book 107, page 453.

The above legal description of Parcel One and its seven exceptions (Tracts One through Seven), is intended to describe all the land, not previously excluded or sold, known as Chama Land and Cattle Company (now known as the Jicarilla Apache Nation's Lodge at Chama), being and intended to be all of the property described in that certain Trustee Deed to The Jicarilla Apache Tribe, recorded in the Office of the County Clerk, Rio Arriba County, New Mexico, on June 5, 1995, in Book 183, page 103. The net area of Parcel One after the seven exceptions are subtracted is 31,776.876 acres, more or less.

Parcel Two

Lot Fifty-Two (52), BUREC Subdivision, Unit A, containing 0.19 acres, more or less, as shown on the plat filed in the Office of the County Clerk, Rio Arriba County, New Mexico, on June 11, 1971, in the Book of Plats, pages 460-461.

Dated: December 4, 2006.
James E. Cason,
Associate Deputy Secretary.

[FR Doc. E6-21202 Filed 12-12-06; 8:45 am]

BILLING CODE 4310-W7-P